DEPARTMENT OF TRANSPORTATION

Federal Transit Administration

United We Ride State/Tribal Mobility Management Coordination Grants; Solicitation for Proposals and Technical Assistance/Training Available

AGENCY: Federal Transit Administration, DOT.

ACTION: Notice of request for proposals.

SUMMARY: This notice solicits proposals from States and tribal associations or consortia for United We Ride (UWR) mobility management grants. This solicitation is issued by the Federal Transit Administration (FTA) on behalf of the Federal Interagency Coordinating Council on Access and Mobility (CCAM). Funding in the amount of $1.5 million is provided by FTA to support grants ranging up to $300,000 each. These grants are intended to assist States and tribal associations in supporting the development of transportation coordination capabilities and capacity within local or regional human service networks to address the individualized customer transportation needs of persons and families with low income, persons with disabilities, older adults and youth. Specifically, these grants seek to address individual customer needs for mobility within workforce development, health care, aging, youth, disability, education, housing, veterans and other social service or human service support networks. State or tribal mobility management proposals may include the development of educational programs, training and technical assistance activities, and mobility management coordination pilots for or within such networks. These grants are not intended to fund the capital or operating costs of specific transportation services or transportation brokerage programs. The projects proposed should represent new or expanded activities, not just the maintenance of existing actions already being funded. FTA-funded technical assistance and training programs are described that may prove helpful to applicants in either developing or implementing proposals.

DATES: Proposals must be submitted February 12, 2009. States are advised to begin the Grants.Gov registration process immediately, if they have not previously submitted grant applications through http://www.Grants.Gov in order to be able to meet the deadline. Grants.Gov allows organizations to electronically find and apply for competitive grant opportunities from all Federal grant-making agencies. Grants.Gov is the single access point for over 1000 grant programs offered by the 26 Federal grant-making agencies.

ADDRESSES: Proposals are to be submitted electronically through http://www.Grants.Gov. Alternatively, proposals can also be submitted in hard copy at the address below. All proposals must be received by close of business February 12, 2009. Use of a commercial delivery service is recommended as U.S. Postal Service delivery to the Department is routinely subject to delays. [Proposals may not be submitted by e-mail.]

Douglas Birnie, United We Ride Grants, 1200 New Jersey Avenue, SE., Room E46-309, Washington, DC 20590.

FOR FURTHER INFORMATION CONTACT: Doug Birnie at PH: 202-366-1666; FAX: 202-366-3394; or UnitedWeRide@dot.gov.

SUPPLEMENTARY INFORMATION:

Background

United We Ride (UWR) is an initiative of the Federal Interagency Coordinating Council on Access and Mobility (CCAM), established by President George W. Bush under Executive Order 13330 on Human Service Transportation Coordination. The CCAM includes eleven Federal departments working together to coordinate Federal programs funding transportation. The goals are to simplify access for customers, reduce transportation service duplication, and enhance cost efficiencies within existing resources.

There are 64 different Federal programs across nine Federal agencies that provide funding that may be used to support community transportation services. The Congress and the Executive Branch are interested in ensuring that various human service transportation activities funded by various Federal programs are better coordinated and more efficient.

The intent of the UWR initiative is to break down the barriers among Federal programs to ensure that transportation services are seamless, comprehensive and accessible. Specifically, UWR is tasked with seeking ways to simplify access to transportation services for persons with disabilities, individuals and families with lower incomes, older adults and youth.

Mobility management projects are short term planning and management activities intended to coordinate transportation service modes in order to address the individualized needs of customers, in this case those within transportation disadvantaged populations, e.g., persons with disabilities, older adults, youth, and individuals and lower income families).

Grant Purpose

Grants are intended to provide states and tribal associations with financial support to help their local or regional education, health care, workforce development and human service agencies and provider networks address their customers' transportation needs in support of their program objectives through mobility management actions.

Eligible Coordination Grant Activities

Grants could be used by State and tribal associations:

1. Assist States and tribal associations to build capabilities and capacity of human service and other service networks to address their customers' mobility needs by participating and providing input/feedback on transportation needs/issues in collaborative local or regional coordinated public transit/human services transportation planning processes and by working with public, private non-profit and private for-profit transportation organizations to deliver comprehensive and coordinated transportation that meets the needs of the transportation-disadvantaged population (e.g., individuals with low incomes, older adults, youth and persons of all ages with disabilities).

2. Educate and train human service case workers/personnel and other service system personnel to assess customer mobility needs, develop appropriate individualized transportation plans and strategies, identify appropriate transportation service options, provide or arrange travel training for customers, and make service placements that are reachable and accessible to customers.

3. Develop transportation capabilities and capacity by establishing local or regional mobility managers, or travel navigators (transportation resource coordinators) working with or within education, health care, human service and workforce development and other service networks. The intent is to develop leadership capabilities and transportation knowledge in order to help these networks address the needs of transportation disadvantaged populations and to work on increasing cross-agency/departmental collaboration to facilitate coordination, enhance services, and address duplication and redundancies of programs and services. Local mobility resource coordinators or travel navigators working with or operating in human service, workforce development, health care, education and other community-based networks would provide or arrange travel orientation and training, trip planning, and other skill building and information activities to help customers address their transportation needs.

4. Implement additional elements in their coordination plans (i.e., plans developed under this or previous UWR State grants) to address capacity building within human service and other networks addressing the needs of transportation disadvantaged populations.

Eligibility of Applicants

Eligible applicants include the Governor's Office from each State. The Governor may designate a “lead” agency in writing. This designation should be submitted with the State's proposal. Eligible applicants also include tribal associations or consortia that would address the needs of multiple tribal networks addressing the human service transportation needs of the tribes. FTA will accept proposals submitted in electronic or hard copy. The proposal must clearly demonstrate collaboration among multiple State or tribal agencies. The Governor's Office, designated “lead” agency, or a designated tribal organization, is responsible for submitting the application, overseeing the implementation of the project and submitting required reports and evaluations.

State and Tribal Association/Consortia Grant Elements

The grants are to encourage States and tribal associations to develop, support, and demonstrate the potential of mobility management with specialized customer markets and within human service and other networks. These grants are meant to help States and tribal associations/consortia build transportation capacity and capabilities within these networks to meet customer travel needs and to provide feedback to transportation providers, planners, and political decision-makers on transportation services and service needs of human service network customers. The purpose of these grants is to apply the mobility management framework for targeted consumer groups—persons with disabilities, youth, older adults, and individuals and families with low incomes—and to develop transportation infrastructure for mobility management coordination within human service, workforce development, health care, education and other community-based networks.

Projects proposed for funding under this announcement must address the required elements listed below and give consideration to including other elements listed or developed in the plan, as appropriate.

1. Consult with an advisory board or planning committee to design the plan for grant-related activities. Members should include, but not be limited to, customers, social and community services, education organizations, local businesses, workforce development, health care, human service and other agencies from target networks, community organizations (faith-based or otherwise), and local leadership. (Required)

2. Provide forums for interagency dialogue on mobility management strategic plans and designs that invite the participation of key agencies (e.g., human service, workforce development, health care, education, transportation other appropriate networks), personnel serving youth with disabilities, older adults, and individuals and families with low incomes, and the business community. Education about mobility management and development of strategic plans and designs should involve the participation of consumers, community service providers, advocacy organizations and other key stakeholders. (Required)

3. Undertake actions to make stakeholders and advocacy groups representing youth with disabilities, older adult, and individuals and families with low incomes aware of the benefits of mobility management activities and to involve them in coordinated transportation and mobility management planning at the State, regional, and local levels. (Required)

4. Design and conduct an evaluation of statewide, local or tribal programs related to mobility management throughout the country to discern promising practices and organize this information to facilitate the adoption of such practices by communities. (Optional)

5. Conceptualize, design, and deliver community awareness and training programs, targeting specialized providers, advocates, and customers, aimed at building mobility management capacity within social service, workforce development, health care, education, and other appropriate networks. This capacity-building training would strengthen participants' ability to implement mobility management programs across their communities, states and tribes. (Optional)

6. Undertake pilot programs and actions to assist local human service, workforce development, education, and health care organizations and their staff address their customer transportation needs, including travel training, individualized trip planning, transportation information, and other needed service skills and methods. (Optional)

Proposal Submission

The proposal should be prepared in a format compatible with Microsoft Word and submitted electronically through the http://www.Grants.Gov Web site. The proposal must include a project narrative that addresses the required and other selected elements described in the section above on “State/Tribal Association/Consortia Grant Elements” and the evaluation criteria below. Proposals may not exceed (20) pages, not including the budget or letters of support. The proposal should include an activity budget. The proposal narrative should be double-spaced, in Times New Roman, 12-point font. Applicants must also submit letters of support via scanned documents attached to the http://www.Grants.Gov submission.

Criteria for Rating and Selecting Proposals

1. The extent to which the state or tribal association/consortia proposal has developed an action plan or program adopted by and coordinated with multiple-State agencies or tribal organizations that addresses the building of capacity and capabilities within service networks to address customer mobility needs of older adults, youth, people with disabilities, and individuals and families with lower incomes. The proposal should reflect this plan and, at a minimum, demonstrate support from the Governor's office or tribal leadership and involvement from at least the State or tribal transportation, aging, labor and education departments.

(20 points)

2. The extent to which the state or tribal association/consortia demonstrates leadership and resources (e.g., matching funds, staff, policies) to implement coordinated human service transportation initiatives. This includes the extent to which the state or tribal association/consortia has addressed the key elements of change management including senior leadership support and ensuring that key personnel either have the skills and experience to lead coordination and strategic planning or will receive the training necessary to achieve success. (20 points)

3. The extent to which the state or tribal association adequately demonstrates coordination/collaboration with other partners including communication plans for keeping key stakeholders informed and involved (e.g., providers, consumers, private for profit, non-profit organizations, or government). (15 points)

4. The extent to which the state or tribal association/consortia demonstrates meaningful involvement of consumers in the development and implementation of human service transportation planning and grant activities at the State, regional and local levels. (15 points)

5. The extent to which the proposed activities, timelines, evaluation plan, and budget are congruent with the proposed goals, objectives, and outcomes for the project and State action plan. (15 points)

6. The extent to which the state or tribal association/consortia has addressed the development and implementation of performance measures and evaluation strategy for the targeted activities outlined in the proposal. (15 points)

Eligibility/Expenses

Grant funds may not be used for capital purchases or operating costs for provision of transportation services or brokerages. Grant funds may be used to support personnel for planning, outreach, training, coordination, mobility management, and other administration activities required to enhance coordination among and across agencies within the state or tribes to increase transportation coordination and customer service capabilities of state, regional and local human service networks. Supplies, small equipment (computer hardware and software, etc.), and travel are also eligible expenses.

Review and Award Process

Interagency panels from CCAM will review each grant application. FTA will notify successful applicants. The anticipated notification of grantee selections is March 2009. FTA regional offices will work with respective Washington, DC-based offices and technical assistance providers to assist states with implementation after the selections are announced. Selected recipients will recieve pre-award authority as of the date of notification of project selection. FTA will manage the grants through FTA's Transportation Electronic Award Management web-based system (TEAM).

Grant Periods and Awards

The grant period is two years (starting on the date of the grant contract obligation and ending two years from that date.) Grants will be awarded competitively based upon the criteria described, provided states and tribal associations that submit proposals meet the requirements outlined this notice.

Technical Assistance and Training

Technical Assistance Available

Technical assistance is available in developing or implementing human network transportation capabilities and capacity building programs. States or tribes may receive technical assistance through a variety of resources. Specific resource centers include the National Resource Center on the Human Service Transportation Coordination (NRC), Community Transportation Assistance Project (CTAP), the Rural Transportation Assistance Program (RTAP), Easter Seals Project ACTION, the National Center on Senior Transportation (NCST), Intelligent Transportation Systems (ITS) Peer-to-Peer Program, the Multi-State Technical Assistance Program (MTAP), the Joblinks Employment Transportation Initiative (Joblinks). The range of services available includes, but is not limited to, assistance with coalition building, assessment, strategic planning, policy development, customer outreach, implementation strategies and evaluation. Technical assistance is provided via phone, email, and during on-site visits when appropriate. States and tribal associations will also be able to receive technical assistance through the UWR ambassador program. The UWR ambassador program provides hands-on assistance to states and tribes in the development and delivery of coordinated human service transportation programs. Information on these technical assistance systems can be found at the United We Ride Website, under the technical assistance section [http://www.unitedweride.gov.]

Training Available

Training is also available to support the program goals.

1. Transportation Solutions: Linking People with Their Community Training: A new training on community-level mobility management activities has been developed by the Community Transportation Association of America and Easter Seals. This 1-day in-person training teaches an individual to become a Certified Transportation Resources Coordinator (TRC) within his or her community. During the course, the TRC will learn about:

• Strategies and templates for gathering information on all available community transportation services.

• Transportation funding sources and programs.

• How to keep the gathered information updated.

• How to develop an individualized transportation plan.

• Support services that assist people in using available transportation options.

• Steps to take to impact their community's efforts to improve transportation options.

The TRC would then serve as a resource person for direct-service providers on potential transportation solutions within his or her agency or community, depending on the size of the service area. The TRC would also conduct a four-hour training course for interested direct-service providers in local human service agencies, workforce development agencies, and other groups on the resources specific to that community. The TRC will receive instruction and a written manual on how to implement the four-hour training when they attend the initial day-long training. The TRC training also provides three new tools for participants: the Individualized Transportation Plan, the Transportation Provider Profile, and the Report of Unmet Transportation Needs.

Initial development of this training was made possible with support of the Office of Disability Employment Policy, U.S. Department of Labor.

The training will be available beginning January 1, 2009. For more information, contact Len Cahill, Training Coordinator, Community Transportation Association of America, 202.415.9653 or 800.891.0590 x705, cahill@ctaa.org.

2. Coordinated Mobility: Unified Transportation Management Solution Training: The National Transit Institute (NTI) administered by Rutgers State University of New Jersey offers a two-day course on creative mobility management approaches for transforming fragmented transportation systems to a more seamless network with a customer-focused mindset.

Objectives and Course Content:

• Identify ways to forge partnerships with community players to coordinate multimodal transportation options around the needs of the customer.

• Develop an understanding of the customer travel needs of today.

• Create awareness of the opportunities.

• Present elements of mobility management and planning techniques.

• Identify and promote the benefits of mobility management for communities.

• Identify funding resources.

Audience and Fees: Human Service Professionals, Transit Providers, Brokerage Firms Personnel, State Agency Staff, transit managers for all of the different services, Metropolitan Planning Organization's (MPO), Transportation Management Association's (TMA's), Councils of Governments, Policy Makers are encouraged to register for this course. Tuition shall be waived for Federal, State and local government employees (including tribal employees) who work in transportation or related areas. Fee for contractors and consultants: $300.00.1.6 CEU credits are offered.

For more information, contact msirleaf@nti.rutgers.edu or call (732) 932-1700.

3. Introduction to Travel Training: This is a three-day course sponsored by Easter Seals Project ACTION. Delivered by Veteran Travel Trainers, this course will provide information on Travel Training Assessment Processes, Trip Planning, The Built and Natural Environment, Designing Travel Instruction Plans, Teaching Street Crossings, Teaching Boarding, Riding, Deboarding Vehicles and Understanding Vehicle Features, Preparing for Unforeseen Incidents and Emergencies. This in-person learning event is delivered in both a classroom and field setting.

Four courses will be offered during the fiscal year and information will be available beginning in October 2008. For more information, contact Kristi Ross, Easter Seals Project ACTION, 800.659.6428, kross@easterseals.com.

Issued on: November 4, 2008.
James S. Simpson,
Administrator, Federal Transit Administration.

[FR Doc. E8-27124 Filed 11-13-08; 8:45 am]

BILLING CODE 4910-57-P